DEPARTMENT OF STATE

[Public Notice 8618]

Department of State FY12 Service Contract Inventory

AGENCY: Department of State.

ACTION: Notice of the release of the Department of State FY 12 Service Contract Inventory.

SUMMARY: The Department of State has publically released its Service Contract Inventory for FY 13 and its analysis of the FY 12 inventory. They are available here: http://csm.state.gov/content.asp?content_id=135&menu_id=71.

Section 743 of Division C of the FY 2010 Consolidated Appropriations Act, Public Law 111-117, requires Department of State, and other civilian agencies, to submit an annual inventory of service contracts. A service contract inventory is a tool to assess an agency in its ability to contract services in support of its mission and operation and whether the contractors' skills are being utilized in an appropriate manner.

DATES: The FY 13 inventory and FY 12 analysis is available on the Department's Web site as of January 30, 2014.

FOR FURTHER INFORMATION CONTACT: Barry Thomas, Division Chief, A/EX/CSM, 202-485-7190, BarryTD2@state.gov.

Dated: January 30, 2014.
Barry Thomas,
Division Chief, A/EX/CSM, Department of State.

[FR Doc. 2014-02286 Filed 2-3-14; 8:45 am]

BILLING CODE 4710-24-P